FEDERAL COMMUNICATIONS COMMISSION

47 CFR Part 54

Universal Service

CFR Correction

In Title 47 of the Code of Federal Regulations, Parts 40 to 69, revised as of October 1, 2017, on page 186, in § 54.410, make the following corrections:

In paragraph (f)(2)(iii), remove the words “the National Verifier, state Lifeline administrator, or state agency” and add, in their place, “the eligible telecommunications carrier”;

In paragraph (f)(4), remove the words “re-certification or subscribers' Lifeline” and add, in their place, “re-certification of subscribers' Lifeline”; and

In paragraph (f)(5), remove the words “state agency's inability” and add, in their place, “state agency that it is unable”.

[FR Doc. 2018-07531 Filed 4-10-18; 8:45 am]

BILLING CODE 1301-00-D